DEPARTMENT OF THE INTERIOR

National Park Service

[NPS-WASO-NAGPRA-NPS0027662; PPWOCRADN0-PCU00RP14.R50000]

Notice of Inventory Completion: University of South Alabama, Center for Archaeological Studies, Mobile, AL

AGENCY: National Park Service, Interior.

ACTION: Notice.

SUMMARY: The University of South Alabama, Center for Archaeological Studies has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of South Alabama, Center for Archaeological Studies. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of South Alabama, Center for Archaeological Studies at the address in this notice by May 30, 2019.

ADDRESSES: Dr. Phil Carr, Director, Center for Archaeological Studies, University of South Alabama, 6052 USA Drive South, Mobile, AL 36688, telephone (252) 460-6907, email pcarr@southalabama.edu.

SUPPLEMENTARY INFORMATION: Notice is here given in accordance with the Native American Graves Protection and Repatriation Act (NAGPRA), 25 U.S.C. 3003, of the completion of an inventory of human remains and associated funerary objects under the control of the University of South Alabama, Center for Archaeological Studies, Mobile, AL. The human remains and associated funerary objects were removed from two sites in Mobile County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of South Alabama, Center for Archaeological Studies professional staff in consultation with representatives of Alabama-Coushatta Tribe of Texas (previously listed as the Alabama-Coushatta Tribes of Texas); Alabama-Quassarte Tribal Town; Chitimacha Tribe of Louisiana; Coushatta Tribe of Louisiana; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Choctaw Nation of Oklahoma; The Muscogee (Creek) Nation; The Seminole Nation of Oklahoma; Thlopthlocco Tribal Town; and the Tunica-Biloxi Indian Tribe (hereafter referred to as “The Consulted Tribes”).

History and Description of the Remains

In 1949, human remains representing, at minimum, one individual was removed by Francis Walter from Site 1MB158 in Mobile County, AL. In 2004, the human remains and associated funerary objects were donated to the University of South Alabama, Center for Archaeological Studies. In January 2019, the human remains were inventoried by Bioarchaeologist Dr. Lesley Gregoricka. She determined that this individual is represented by a relatively complete skull, including the cranium, detached maxilla, mandible, and 22 in situ permanent teeth. The enamel crowns were worn, but were otherwise in a good state of preservation. Prior to Dr. Gregoricka's analysis, an unknown individual had used glue to reconstruct the fragmentary cranial vault. The maxilla and mandible had been similarly reconstructed, and are currently adhered to one another with glued bamboo skewers. Additional small fragments from the maxilla, zygomatic, and temporal bone of the skull appear to have once been reattached to the skull, but have since broken off and placed in a small, clear plastic box. All the teeth exhibit moderate to significant wear. The cranial remains are most consistent with a middle-aged adult male. Numerous Wormian bones and an Inca bone, which are found in higher frequencies among Native American populations were present along the lambdoidal suture. Also, the back of the skull (plagiocephaly) was flattened and likely reflects cradle boarding and resultant cranial vault modification (tabular). No known individuals were identified. The 58 associated funerary objects are 43 large pottery sherds and 15 small pottery sherds or sherdlets. Based on the pottery temper and design, the site dates from the Woodland to Mississippian periods, or possibly the Protohistoric period.

In July of 1982, human remains representing, at minimum, one individual were removed by archeologist Reed Stowe from Nannahubba Bluff, located on the Tombigbee River and adjacent to archeological site 1MB071 in Mobile County, AL. The human remains consist of 36 skull fragments, one pelvic (illa) fragment, and one intermediate phalange #3 or #4. No known individuals were identified. The one associated funerary object is a probable fishbone found in context with burial.

Site 1MB071 is a prehistoric/historic Native American Village on the west bank of the Tombigbee River. It is dated by the pottery types of Mulberry Creek Cord Marked (Late Woodland-Early Mississippian) and Chickachae Combed (Histoic) found at the site location.

Determinations Made by the University of South Alabama, Center for Archaeological Studies

Officials of the University of South Alabama, Center for Archaeological Studies have determined that:

• Pursuant to 25 U.S.C. 3001(9), the human remains described in this notice represent the physical remains of 2 individuals of Native American ancestry.

• Pursuant to 25 U.S.C. 3001(3)(A), the 59 objects described in this notice are reasonably believed to have been placed with or near individual human remains at the time of death or later as part of the death rite or ceremony.

• Pursuant to 25 U.S.C. 3001(2), there is a relationship of shared group identity that can be reasonably traced between the Native American human remains and associated funerary objects and The Consulted Tribes.

Additional Requestors and Disposition

Lineal descendants or representatives of any Indian Tribe or Native Hawaiian organization not identified in this notice that wish to request transfer of control of these human remains and associated funerary objects should submit a written request with information in support of the request to Dr. Phil Carr, Director, Center for Archaeological Studies, University of South Alabama, 6052 USA Drive South, Mobile, AL 36688, telephone (252) 460-6907, email pcarr@southalabama.edu, by May 30, 2019. After that date, if no additional requestors have come forward, transfer of control of the human remains and associated funerary objects to The Consulted Tribes may proceed.

The University of South Alabama, Center for Archaeological Studies is responsible for notifying The Consulted Tribes that this notice has been published.

Dated: April 9, 2019.
Melanie O'Brien,
Manager, National NAGPRA Program.

[FR Doc. 2019-08742 Filed 4-29-19; 8:45 am]

BILLING CODE 4312-52-P